DEPARTMENT OF DEFENSE

Department of the Army

[Docket No. USA-2007-0028]

Submission for OMB Review; Comment Request

ACTION: Notice.

The Department of Defense has submitted to OMB for clearance, the following proposal for collection of information under the provisions of the Paperwork Reduction Act (44 U.S.C. Chapter 35).

DATES: Consideration will be given to all comments received by April 30, 2008.

Title, Form, and OMB Number: Uniform Tender of Rates and/or Charges for Domestic transportation Services (DoD/USCG Sponsored Household Goods); SDDC Form 43-R; OMB Control Number 0702-0018.

Type of Request: Extension.

Number of Respondents: 1,124.

Responses per Respondent: 2.

Annual Responses: 2,248.

Average Burden per Response: 30 minutes.

Annual Burden Hours: 1,124.

Needs and Uses: Department of Defense approved household goods carrier files rates to engage in the movement of DOD and United States Coast Guard sponsored shipments within the continental United States. Headquarters, Military Surface Deployment and Distribution Command evaluates the rates and awards the traffic to low rate responsible carriers whose rates are responsive and most advantageous to the Government.

Affected Public: Business or other for-profit.

Frequency: Semi-annually.

Respondent's Obligation: Required to obtain or retain benefits.

OMB Desk Officer: Ms. Sharon Mar.

Written comments and recommendations on the proposed information collection should be sent to Ms. Mar at the Office of Management and Budget, Desk Officer for DoD, Room 10236, New Executive Office Building, Washington, DC 20503. Comments may be e-mailed to Ms. Mar at Sharon_Mar@omb.eop.gov.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: March 24, 2008.
Patricia L. Toppings,
Alternate OSD Federal Register Liaison Officer, Department of Defense.

[FR Doc. E8-6535 Filed 3-28-08; 8:45 am]

BILLING CODE 5001-06-P